DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Privacy and Confidentiality.

Time and Date: 8:30 a.m.-5:30 p.m. September 10, 2002, 8:30 a.m.-4:00 p.m. September 11, 2002.

Place: Boston Park Plaza Hotel, 64 Arlington Street, Boston, Massachusetts 02116-3912, Phone: (617) 426-2000.

Status: Open.

Purpose: The purpose of this meeting of the Subcommittee on Privacy and Confidentiality is to gather information on implementation plans for the final regulation “Standards for Privacy of Individually Identifiable Health Information” (45 CFR parts 160 and 164), promulgated under the Health Insurance Portability and Accountability Act of 1996. The regulation and further information about it can be found in the Web site of the Office for Civil Rights at http://www.hhs.gov/ocr/hipaa/.

The meeting will seek information from invited panels of experts from the industry about implementation plans and practical issues identified so far in implementation of the regulation, and suggestions about possible solutions for such issues. The Subcommittee particularly seeks detailed information about the following: (1) Technical assistance plans and needs, (2) outreach, education and training efforts, (3) compliance resources, (4) best practices, (5) public-private partnerships, (6) State preemption analyses, and (7) the quality of vendors and consulting organizations. The panels will include representatives from various sectors of the healthcare industry, including small providers, health plans, and State agencies.

In addition to the panels that will be invited to address these issues, members of the public who would like to make a brief (3 minutes or less) oral comment on one or more of the specified issues during the meeting will be placed on the agenda as time permits. To be included on the agenda, please contact Marietta Squire (301) 458-4524, by e-mail at mrawlinson@cdc.gov, or postal address at NCHS, Presidential Building, Room 1100, 6525 Belcrest Road, Hyattsville, Maryland 20782 by August 30, 2002. Additional information about the meeting will be provided on the NCVHS Web site at http://www.ncvhs.hhs.gov shortly before the meeting date.

Contact Person for More Information: Substantive program information may be obtained from Stephanie Kaminsky, J.D., Lead Staff Person for the NCVHS Subcommittee on Privacy and Confidentiality, Office of Civil Rights, Department of Health & Human Services, JFK Bldg., Government Center Rm. 1825, Boston, MA 02203, telephone 617-565-1352; or Marjorie S. Greenberg, Executive Secretary, NCVHS, NCHS, CDC, Room 1100, Presidential Building, 6525 Belcrest Road, Hyattsville, Maryland 20782, telephone (301) 458-4245. Information about the committee, including summaries of past meetings and a roster of committee members, is available on the Committee's Web site at http://www.ncvhs.hhs.gov.

Dated: August 27, 2002.
James Scanlon,
Director, Division of Data Policy, Office of the Assistant Secretary for Planning and Evaluation.

[FR Doc. 02-22416 Filed 9-3-02; 8:45 am]

BILLING CODE 4151-05-M